DEPARTMENT OF ENERGY

Federal Energy Regulatory Commission

Combined Notice of Filings #1

Take notice that the Commission received the following electric rate filings:

Docket Numbers: ER10-1781-003.

Applicants: Northern Indiana Public Service Company.

Description: Triennial Market Power Analysis for Central Region of Northern Indiana Public Service Company LLC.

Filed Date: 12/21/20.

Accession Number: 20201221-5457.

Comments Due: 5 p.m. ET 2/19/21.

Docket Numbers: ER10-2502-008; ER10-2472-007; ER10-2473-007; ER11-2724-008; ER11-4436-006; ER18-2518-003; ER19-645-002.

Applicants: Black Hills Colorado Electric, LLC, Black Hills Colorado IPP, LLC, Black Hills Colorado Wind, LLC, Black Hills Electric Generation, LLC, Black Hills Power, Inc., Black Hills Wyoming, LLC, Cheyenne Light Fuel & Power Company.

Description: Notice of Non-Material Change in Status of Black Hills Colorado Electric, LLC, et al.

Filed Date: 12/21/20.

Accession Number: 20201221-5451.

Comments Due: 5 p.m. ET 1/11/21.

Docket Numbers: ER10-2739-029; ER10-1859-010; ER10-1872-010; ER10-1892-016; ER12-995-008; ER16-1652-017; ER20-660-004.

Applicants: LS Power Marketing, LLC, Bolt Energy Marketing, LLC, Cherokee County Cogeneration Partners, LLC, Columbia Energy LLC, LifeEnergy, LLC, Mobile Energy, LLC, Santa Rosa Energy Center, LLC.

Description: Triennial Market Power Analysis for Southeast Region of LS Power Development, LLC.

Filed Date: 12/21/20.

Accession Number: 20201221-5453.

Comments Due: 5 p.m. ET 2/19/21.

Docket Numbers: ER10-3125-014; ER10-3100-014; ER10-3102-014; ER10-3107-014; ER15-1447-006; ER15-1657-012.

Applicants: AL Sandersville, LLC, Effingham County Power, LLC, Mid-Georgia Cogen L.P., MPC Generating, LLC, SEPG Energy Marketing Services, LLC, Walton County Power, LLC.

Description: Triennial Market Power Analysis for Southeast Region of AL Sandersville, LLC, et. al.

Filed Date: 12/21/20.

Accession Number: 20201221-5454.

Comments Due: 5 p.m. ET 2/19/21.

Docket Numbers: ER15-2028-010.

Applicants: Southwest Power Pool, Inc.

Description: Compliance filing: Compliance Filing in Response to Order issued in ER15-2028-006 (Corn Belt) to be effective 10/1/2015.

Filed Date: 12/23/20.

Accession Number: 20201223-5015.

Comments Due: 5 p.m. ET 1/13/21.

Docket Numbers: ER16-1275-002; ER16-759-001; ER17-2342-001; ER17-2343-001; ER18-348-001.

Applicants: Innovative Solar 46, LLC, Innovative Solar 43, LLC, Shoe Creek Solar, LLC, Bladen Solar, LLC, Bullock Solar, LLC.

Description: Notice of Non-Material Change in Status of Cypress Creek MBR Sellers.

Filed Date: 12/21/20.

Accession Number: 20201221-5456.

Comments Due: 5 p.m. ET 1/11/21.

Docket Numbers: ER16-1404-006.

Applicants: New York Independent System Operator, Inc.

Description: Compliance filing: Errata filing re: BSM Self Supply Exemption compliance filing to be effective 2/20/2021.

Filed Date: 12/22/20.

Accession Number: 20201222-5117.

Comments Due: 5 p.m. ET 1/12/21.

Docket Numbers: ER18-1077-002; ER13-1430-010; ER13-1561-010; ER15-1218-009; ER16-2501-003; ER16-2502-003; ER16-38-007; ER16-39-006; ER17-2341-003 ER17-2453-003; ER18-1076-002; ER18-713-002.

Applicants: GASNA 36P, LLC, GASNA 6P, LLC, CA Flats Solar 150, LLC, CA Flats Solar 130, LLC, Imperial Valley Solar 3, LLC, Kingbird Solar A, LLC, Kingbird Solar B, LLC, Solar Star California XIII, LLC, Nicolis, LLC, Tropico, LLC, Arlington Valley Solar Energy II, LLC, Centinela Solar Energy, LLC.

Description: Notice of Non-Material Change in Status of GASNA 36P, LLC, et. al.

Filed Date: 12/21/20.

Accession Number: 20201221-5450.

Comments Due: 5 p.m. ET 1/11/21.

Docket Numbers: ER19-2901-005; ER10-1852-047; ER10-1951-029; ER10-1966-015; ER11-4462-050; ER12-2225-014; ER12-2226-014; ER14-2138-011; ER17-838-025; ER18-2091-007; ER19-2389-005; ER20-1417-003.

Applicants: Bronco Plains Wind, LLC, Florida Power & Light Company, Grazing Yak Solar, LLC, Limon Wind, LLC, Limon Wind II, LLC, Limon Wind III, LLC, Logan Wind Energy, LLC, NextEra Energy Marketing, LLC, NextEra Energy Services Massachusetts, LLC, NEPM II, LLC, Roundhouse Renewable Energy, LLC, Titan Solar, LLC.

Description: Notice of Change in Status of NextEra Entities.

Filed Date: 12/21/20.

Accession Number: 20201221-5455.

Comments Due: 5 p.m. ET 1/11/21.

Docket Numbers: ER21-712-000.

Applicants: New England Hydro-Transmission Electric Company, Inc., New England Hydro-Transmission Corporation., New England Electric Transmission Corporation, VERMONT ELECTRIC TRANSMISSION COMPANY, IRH Management Committee.

Description: Pre-Arranged/Pre-Agreed (Settlement and Settlement Agreement) Filing of New England Hydro-Transmission Electric Company, Inc.

Filed Date: 12/18/20.

Accession Number: 20201218-5379.

Comments Due: 5 p.m. ET 1/8/21.

Docket Numbers: ER21-716-000.

Applicants: PJM Interconnection, L.L.C.

Description: § 205(d) Rate Filing: Correction to Original ISA, SA No. 5692; Queue No. AF1-198 (amend) to be effective 6/30/2020.

Filed Date: 12/22/20.

Accession Number: 20201222-5123.

Comments Due: 5 p.m. ET 1/12/21.

Docket Numbers: ER21-718-000.

Applicants: Rainbow Energy Marketing Corporation.

Description: Notice of Cancellation of Multiple Inactive Legacy Electric Service Agreements and Rate Schedules of Rainbow Energy Marketing Corporation.

Filed Date: 12/21/20.

Accession Number: 20201221-5458.

Comments Due: 5 p.m. ET 1/11/21.

Docket Numbers: ER21-719-000.

Applicants: MidAmerican Central California Transco, LLC.

Description: § 205(d) Rate Filing: MCCT Annual Update TRBAA Filing to be effective 1/1/2021.

Filed Date: 12/23/20.

Accession Number: 20201223-5004.

Comments Due: 5 p.m. ET 1/13/21.

Docket Numbers: ER21-720-000.

Applicants: Midcontinent Independent System Operator, Inc.

Description: § 205(d) Rate Filing: 2020-12-23_SA 3595 ITC Midwest-Heartland Divide Wind FSA (J583) to be effective 2/22/2021.

Filed Date: 12/23/20.

Accession Number: 20201223-5006.

Comments Due: 5 p.m. ET 1/13/21.

Docket Numbers: ER21-721-000.

Applicants: Midcontinent Independent System Operator, Inc.

Description: § 205(d) Rate Filing: 2020-12-23_SA 3596 ITC Midwest-Walleye Wind FSA (J569) to be effective 2/22/2021.

Filed Date: 12/23/20.

Accession Number: 20201223-5007.

Comments Due: 5 p.m. ET 1/13/21.

Docket Numbers: ER21-722-000.

Applicants: Midcontinent Independent System Operator, Inc.

Description: § 205(d) Rate Filing: 2020-12-23_SA 3597 ITC Midwest-Emmons Logan Wind FSA (J302 J503) to be effective 2/22/2021.

Filed Date: 12/23/20.

Accession Number: 20201223-5010.

Comments Due: 5 p.m. ET 1/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2020.
Nathaniel J. Davis, Sr.,
Deputy Secretary.

[FR Doc. 2020-28973 Filed 12-30-20; 8:45 am]

BILLING CODE 6717-01-P